DEPARTMENT OF TRANSPORTATION

Coast Guard

[USCG-2002-12272]

Merchant Marine Personnel Advisory Committee; Meeting

AGENCY: Coast Guard, DOT.

ACTION: Notice of meeting.

SUMMARY: A working group of the Merchant Marine Personnel Advisory Committee (MERPAC) will meet to discuss task statement #34 concerning the minimum standard of competence in security necessary for a ship's security officer and crew. MERPAC advises the Secretary of Transportation on matters relating to the training, qualifications, licensing, certification, and fitness of seamen serving in the U.S. merchant marine. This meeting will be open to the public.

DATES: The MERPAC working group will meet on Tuesday, June 18, 2002, from 8:30 a.m. to 3:30 p.m. This meeting may adjourn early if all business is finished. Requests to make oral presentations should reach the Coast Guard on or before June 4, 2002. Written material and requests to have a copy of your material distributed to each member of the working group should reach the Coast Guard on or before June 4, 2002.

ADDRESSES: The working group of MERPAC will meet in room 1103, U.S. Coast Guard Headquarters, 2100 Second Street, SW., Washington, DC. Further directions regarding the location of U.S. Coast Guard Headquarters may be obtained by contacting Mr. Mark Gould at (202) 267-6890. Send written material and requests to make oral presentations to Commander Brian J. Peter, Commandant (G-MSO-1), U.S. Coast Guard Headquarters, 2100 Second Street, SW., Washington, DC 20593-0001. This notice is available on the Internet at http://dms.dot.gov.

FOR FURTHER INFORMATION CONTACT: For questions on this notice, contact Commander Brian J. Peter, Executive Director of MERPAC, or Mr. Mark C. Gould, Assistant to the Executive Director, telephone 202-267-6890, fax 202-267-4570, or e-mail mgould@comdt.uscg.mil.

SUPPLEMENTARY INFORMATION: Notice of this meeting is given under the Federal Advisory Committee Act, 5 U.S.C. App. 2.

Agenda of June 18, 2002 Meeting

The working group will meet to discuss the Knowledge, Understanding, and Proficiency (KUPs) required to train a ship security officer in the minimum competencies detailed in task statement #34. The International Maritime Organization's Maritime Safety Committee (MSC) will further consider the competencies to be required of ship security officers and other crew members at its 75th session which will be held from 15-24 May 2002. The United States' proposal is contained in MSC paper 75/17/30 (located at http://www.uscg.mil/hq/g-m/nmc/imosec/75-17-30.pdf). The MERPAC working group will consider any action taken on this proposal by the MSC. The working group will develop the KUPs into a table format similar to Section A of the International Convention on Standards of Training, Certification and Watchkeeping for Seafarers (STCW), as amended, Code. At the end of the day, the working group will re-cap its discussions and prepare the table for the full committee to consider at its next meeting.

Procedural

This meeting is open to the public. Please note that the meeting may adjourn early if all business is finished. At the Chair's discretion, members of the public may make oral presentations during the meeting. If you would like to make an oral presentation at the meeting, please notify the Executive Director no later than June 4, 2002. Written material for distribution at the meeting should reach the Coast Guard no later than June 4, 2002. If you would like a copy of your material distributed to each member of the committee or working group in advance of the meeting, please submit 25 copies to the Executive Director no later than June 4, 2002. We request that members of the public who plan to attend this meeting notify Mr. Mark Gould at the number listed in ADDRESSES above so that building security officials may be notified.

Information on Services for Individuals With Disabilities

For information on facilities or services for individuals With disabilities or to request special assistance at the meeting, contact the Assistant Executive Director as soon as possible.

Dated: May 7, 2002.
Joseph J. Angelo,
Director of Standards, Marine Safety, Security and Environmental Protection.

[FR Doc. 02-11918 Filed 5-10-02; 8:45 am]

BILLING CODE 4910-15-P